ENVIRONMENTAL PROTECTION AGENCY

[FRL-7064-8]

Agency Information Collection Activities: Submission for OMB Review; Comment Request; National Emission Standards for Hazardous Air Pollutants (NESHAP) for Vinyl Chloride

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: National Emission Standards for Hazardous Air Pollutants (NESHAP) for Vinyl Chloride, OMB Control Number 2060-0071, expiration date September 30, 2001. The ICR describes the nature of the information collection and its expected burden and cost; where appropriate, it includes the actual data collection instrument.

DATES: Comments must be submitted on or before October 25, 2001.

ADDRESSES: Send comments, referencing EPA ICR No. 0186.09 and OMB Control No. 2060-0071, to the following addresses: Susan Auby, U.S. Environmental Protection Agency, Collection Strategies Division (Mail Code 2822), 1200 Pennsylvania Avenue, NW., Washington, DC 20460-0001; and to the Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901, by email at Auby.sausan@epamail.epa.gov, or download off the Internet at http://www.epa.gov/icr and refer to EPA ICR No. 0186.09. For technical questions about the ICR contact Gregory Fried at EPA at (202) 564-7016.

SUPPLEMENTARY INFORMATION: Title: National Emission Standards for Hazardous Air Pollutants (NESHAP) for Vinyl Chloride Subpart F, OMB Control Number 2060-0071, EPA ICR Number 0186.09 expiring September 30, 2001. This is a request for extension of a currently approved collection.

Abstract: The National Emissions Standards for Hazardous Air Pollutants (NESHAP) for Vinyl Chloride (VC) were proposed on December 24, 1975, promulgated on October 21, 1976, and amended on June 7, 1977, September 30, 1986, September 23, 1988 and December 23, 1992. These standards apply to exhaust gases and oxychlorination vents at ethylene dichloride (EDC) plants; exhaust gases at vinyl chloride monomer (VCM) plants; and exhaust gases, reactors opening losses, manual vent valves, and stripping residuals at polyvinyl chloride (PVC) plants. The standards also apply to relief valves and fugitive emission sources at all three types of plants. In the Administrator's judgement, vinyl chloride emissions from polyvinyl chloride (PVC), ethylene dichloride (EDC), and vinyl chloride monomer (VCM) plants cause or contribute to air pollution that may reasonably be anticipated to result in an increase in mortality or an increase in serious irreversible, or incapaciting reversible illness. Vinyl chloride is a known human carcinogen which causes a rare cancer of the liver. There is no reason to believe that operators of plants affected by this NESHAP would maintain low emissions without regulations under the Clean Air Act. In order to ensure compliance with the standard, adequate record keeping and reporting is necessary. This information enables the Agency to: (1) Ensure that facilities affected continue to operate the control equipment and use proper work practices to achieve compliance; (2) notification of startup indicates to enforcement personnel when a new facility has been constructed and is thus subject to the standards; and (3) provides a means for ensuring compliance. The standards require daily measurements from the continuous monitoring system and of the reactor pressure and temperature. Establishment of a continuous monitoring program is a high priority of the Agency. The continuous monitoring system monitors VC emissions from the stack to judge compliance with the numerical limits in the standards. The parameters are used to judge the operation of the reactor so that the source and EPA will be aware of improper operation and maintenance. The standards implicitly require the initial reports required by the General Provisions of 40 CFR 61.7 and 61.9. These initial reports include application for approval of construction or modification, and notification of startup. The standards also require quarterly reporting of vinyl chloride emissions from stripping, reactor openings, and exhausts. Reports must be submitted within 10 days of each valve discharge and manual vent valve discharge. All reports are sent to the delegated State authority. In the event that there is no such delegated State authority, the reports are sent directly to the EPA Regional Office. The owner/operator must make the following one-time-only reports; application for approval of construction or modification; notification of startup; application of waiver of testing (if desired by source); and an initial report. The initial report includes a list of the equipment installed for compliance, a description of the physical and functional characteristics off each piece of equipment, a description of the methods which have been incorporated into the standard operation procedures for measuring or calculating emissions, and a statement that equipment and procedures are in place and are being used. Generally, the one-time only reports are required of all sources subject to NESHAP.

An agency may not conduct or sponsor, and a person is not required to respond to, a collection of information unless it displays a currently valid OMB control number. The OMB control numbers for EPA's regulations are listed in 40 CFR part 9 and 48 CFR chapter 15. The Federal Register document required under 5 CFR 1320.8(d), soliciting, comments on this collection of information was published on February 1, 2001. No comments were received.

Burden Statement: The annual public reporting and recordkeeping burden for this collection of information is estimated to average approximately 52 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Manufacturers of Ethylene Dichloride, Vinyl Chloride Monomer, or Polyvinyl Chloride.

Estimated Number of Respondents: 308.

Frequency of Response: Quarterly and on occasion.

Estimated Total Annual Hour Burden: 16,159 hours.

Estimated Total Annualized Capital, O&M Cost Burden: $1,980,000.

Send comments on the Agency's need for this information, the accuracy of the provided burden estimates, and any suggested methods for minimizing respondent burden, including through the use of automated collection techniques to the above addresses. Please refer to EPA ICR No. 0186.09 and OMB Control No. 2060-0071 in any correspondence.

Dated: September 12, 2001.
Oscar Morales,
Director, Collection Strategies Division.

[FR Doc. 01-23920 Filed 9-24-01; 8:45 am]

BILLING CODE 6560-50-P